ENVIRONMENTAL PROTECTION AGENCY

[EPA-HQ-OAR-2013-0118; FRL-9949-96-OEI]

Information Collection Request Submitted to OMB for Review and Approval; Comment Request; Control of Evaporative Emissions From New and In-Use Portable Gasoline Containers (Renewal)

AGENCY: Environmental Protection Agency (EPA).

ACTION: Notice.

SUMMARY: The Environmental Protection Agency has submitted an information collection request (ICR), “Control of Evaporative Emissions from New and In-Use Portable Gasoline Containers (Renewal),” (EPA ICR No. 2213.05, OMB Control No. 2060-0597) to the Office of Management and Budget (OMB) for review and approval in accordance with the Paperwork Reduction Act (44 U.S.C. 3501 et seq.). This is a proposed extension of the ICR, which is currently approved through August 31, 2016. Public comments were previously requested via the Federal Register (81 FR 23293) on April 20, 2016 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before September 28, 2016.

ADDRESSES: Submit your comments, referencing Docket ID Number EPA-HQ-OAR-2013-0118, to (1) EPA online using www.regulations.gov (our preferred method), or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Julia Giuliano, Compliance Division, Office of Transportation and Air Quality, U.S. Environmental Protection Agency, 2000 Traverwood, Ann Arbor, Michigan 48105; telephone number: 734-214-4865; fax number 734-214-4869; email address: giuliano.julia@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: EPA is required under section 183(e) of the Clean Air Act to regulate Volatile Organic Compound (VOC) emissions from the use of consumer and commercial products. Under regulations promulgated on February 26, 2007 (72 FR 8428) manufacturers of new portable gasoline containers are required to obtain certificates of conformity with the Clean Air Act, effective January 1, 2009. This ICR covers the burdens associated with this certification process. EPA reviews information submitted in the application for certification to determine if the container design conforms to applicable requirements and to verify that the required testing has been performed. The certificate holder is required to keep records on the testing and collect and keep warranty and defect information for annual reporting on in-use performance of their products. The respondent must also retain records on the units produced, apply serial numbers to individual containers, and track the serial numbers to their certificates of conformity. Any information submitted for which a claim of confidentiality is made is safeguarded according to EPA regulations at 40 CFR 2.201 et seq.

Form Numbers: None.

Respondents/affected entities: Manufacturers of new portable gasoline containers from 0.25 to 10.0 gallons in capacity.

Respondent's obligation to respond: Mandatory 40 CFR part 59, subpart F.

Estimated number of respondents: 8 (total).

Frequency of response: Yearly for warranty reports; at least once every five years for certificate renewals.

Total estimated burden: 250 hours (per year). Burden is defined at 5 CFR 1320.3(b)

Total estimated cost: $32,419.45 (per year), includes $20,452 annualized capital or operation & maintenance costs.

Changes in Estimates: There is an increase of 71 hours in the total estimated respondent burden compared with the ICR currently approved by OMB. This increase of the estimated burden and cost estimates is due to a change in the estimated cost of labor and additional testing requirements for new portable fuel container families to comply with the requirements for evaporative testing promulgated in 40 CFR part 59.

Courtney Kerwin,
Director, Regulatory Support Division.

[FR Doc. 2016-20617 Filed 8-26-16; 8:45 am]

BILLING CODE 6560-50-P